SMALL BUSINESS ADMINISTRATION

[Disaster Declaration #13423 and #13424]

Alaska Disaster #AK-00025

AGENCY: U.S. Small Business Administration.

ACTION: Notice.

SUMMARY: This is a notice of an Administrative declaration of a disaster for the State of Alaska dated 12/18/2012.

Incident: High Winds and Flooding.

Incident Period: 09/15/2012 through 09/30/2012.

Effective Date: 12/18/2012.

Physical Loan Application Deadline Date: 02/18/2013.

Economic Injury (EIDL) Loan Application Deadline Date: 09/18/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Kenai Peninsula Borough; Matanuska-Susitna Borough.

Contiguous Counties:

Alaska: Chugach Reaa; Copper River Reaa; Delta/Greely Reaa; Denali Borough; Iditarod Area Reaa; Kodiak Island Borough; Lake And Peninsula Borough; Municipality of Anchorage.

The Interest Rates are:

| Percent
For Physical Damage:
Homeowners With Credit Available Elsewhere | 3.375
Homeowners Without Credit Available Elsewhere | 1.688
Businesses With Credit Available Elsewhere | 6.000
Businesses Without Credit Available Elsewhere | 4.000
Non-Profit Organizations With Credit Available Elsewhere | 3.125
Non-Profit Organizations Without Credit Available Elsewhere | 3.000
For Economic Injury:
Businesses & Small Agricultural Cooperatives Without Credit Available Elsewhere | 4.000
Non-Profit Organizations Without Credit Available Elsewhere | 3.000

The number assigned to this disaster for physical damage is 13423B and for economic injury is 134240.

The State which received an EIDL Declaration #is ALASKA.

(Catalog of Federal Domestic Assistance Numbers 59002 and 59008)

Dated: December 18, 2012.
Karen G. Mills,
Administrator.

[FR Doc. 2012-31326 Filed 12-27-12; 8:45 am]

BILLING CODE 8025-01-P